DEPARTMENT OF AGRICULTURE

Forest Service

North Gifford Pinchot National Forest Resource Advisory Committee Meeting Notice

AGENCY: Forest Service, USDA.

ACTION: Notice of meeting.

SUMMARY: The North Gifford Pinchot National Forest Resource Advisory Committee will meet on Tuesday, April 14, 2009, at the Salkum Timberland Library, 2480 U.S. Highway 12, Salkum, Washington. The meeting will begin at 9 a.m. and continue until 4 p.m. The purpose of the meeting is to: Elect a chairperson and vice-chair, propose an indirect project percentage, receive an overview of Title II accomplishments, and make recommendations on approximately 15 proposals for Title II funding of projects under the Secure Rural Schools and County Self-Determination Act of 2000.

All North Gifford Pinchot National Forest Resource Advisory Committee meetings are open to the public. Interested citizens are encouraged to attend. The “open forum” provides opportunity for the public to bring issues, concerns, and discussion topics to the Advisory Committee. The “open forum” is scheduled to occur at 9:10 a.m. Interested speakers will need to register prior to the open forum period. The committee welcomes the public's written comments on committee business at any time.

FOR FURTHER INFORMATION CONTACT: Direct questions regarding this meeting to Roger Peterson, Public Affairs Specialist, at (360) 891-5007, or write Forest Headquarters Office, Gifford Pinchot National Forest, 10600 NE. 51st Circle, Vancouver, WA 98682.

Dated: March 6, 2009.
Janine Clayton,
Forest Supervisor.

[FR Doc. E9-5588 Filed 3-16-09; 8:45 am]

BILLING CODE 3410-11-M